DEPARTMENT OF HEALTH AND HUMAN SERVICES

Renewal of Charter for the National Vaccine Advisory Committee

AGENCY: National Vaccine Program Office, Office of the Assistant Secretary for Health, Office of the Secretary, Department of Health and Human Services.

ACTION: Notice.

SUMMARY: The Department of Health and Human Services is hereby giving notice that the National Vaccine Advisory Committee (NVAC) has been rechartered.

FOR FURTHER INFORMATION CONTACT: LCDR Guillermo Aviles-Mendoza, Public Health Advisor, National Vaccine Program Office, Department of Health and Human Services, Room 739G.4, Hubert H. Humphrey Building, 200 Independence Avenue SW., Washington, DC 20201. Phone: (202) 205-2982; fax: (202) 690-4631; email: nvpo@hhs.gov.

SUPPLEMENTARY INFORMATION: NVAC is a non-discretionary Federal advisory committee. The establishment of NVAC was mandated under Section 2105 (42 U.S.C. Section 300aa-5) of the Public Health Service (PHS) Act, as amended. The Committee is governed by provisions of the Federal Advisory Committee Act (FACA), Public Law 92-463, as amended (5 U.S.C. App.). NVAC advises and makes recommendations to the Director, National Vaccine Program (NVP), on matters related to the Program's responsibilities. The Assistant Secretary for Health is appointed to serve as the Director, NVP.

To carry out its mission, NVAC (1) Studies and recommends ways to encourage the availability of an adequate supply of safe and effective vaccination products in the United States; (2) recommends research priorities and other measures the Director of the NVP should take to enhance the safety and efficacy of vaccines; (3) advises the Director of the NVP in the implementation of Sections 2102 and 2103 of the PHS Act; and (4) identifies annually for the Director of the NVP the most important areas of governmental and non-governmental cooperation that should be considered in implementing Sections 2101 and 2103 of the PHS Act.

On July 23, 2013, the Assistant Secretary for Health approved for the NVAC charter to be renewed. There was one amendment recommended and approved for the charter. The Committee structure has been modified to increase the number of non-voting liaison representatives. An invitation has been extended to the Pan American Health Organization (PAHO) to serve as a non-voting liaison representative member of the Committee. PAHO is an international public health agency with over 110 years of experience working to improve health and living standards of people of the Americas. The organization is part of the United Nations system; it serves as the Regional Office for the Americas of the World Health Organization and as the health organization of the Inter-American System. PAHO works to strengthen national and local health systems and to improve the health of peoples of the Americas. It promotes primary health care strategies, including coordination of immunization campaigns through the Americas. Expanding the NVAC structure to include PAHO will assist the Committee to accomplish its mission of identifying the most important areas of governmental and non-governmental cooperation that should be considered to achieve optimal prevention of human infectious diseases through immunization and to achieve optimal prevention against adverse reactions to vaccine. The new charter was effected and filed with the appropriate Congressional committees and Library of Congress on July 30, 2013. Renewal of the NVAC charter gives authorization for the Committee to continue to operate until July 30, 2015.

A copy of the NVAC charter is available on the Web site for the National Vaccine Program Office at http://www.hhs.gov/nvpo/nvac. A copy of the charter also can be obtained by accessing the FACA database that is maintained by the Committee Management Secretariat under the General Services Administration. The Web site address for the FACA database is http://fido.gov/facadatabase.

Dated: August 8, 2013.
Bruce Gellin,
Deputy Assistant Secretary for Health (Vaccines and Immunization), Director, National Vaccine Program Office.

[FR Doc. 2013-19780 Filed 8-14-13; 8:45 am]

BILLING CODE 4150-44-P